DEPARTMENT OF HEALTH AND HUMAN SERVICES

National Institutes of Health

Prospective Grant of Exclusive License: Methods and Compositions for the Promotion of Hair Growth Utilizing Actin Binding Peptides

AGENCY: National Institutes of Health, Public Health Service, DHHS.

ACTION: Notice.

SUMMARY: This notice, in accordance with 35 U.S.C. 209(c)(1) and 37 CFR part 404.7(a)(1)(i), that the National Institutes of Health, Department of Health and Human Services, is contemplating the grant of an exclusive patent license to practice the inventions embodied in U.S. Patent Application Serial No. 60/351,386 (re-filed), PCT Patent Application Serial No. PCT/US03/01973, filed January 22, 2003 (DHHS Ref. E-053-2002/0-PCT-02), entitled “Methods and Compositions for the Promotion of Hair Growth Utilizing Actin Binding Peptides” to Panacea Biotec Ltd., which has offices in New Delhi, India. The patent rights in these inventions have been assigned to the United States of America.

The prospective exclusive license territory may be limited to India, Sri Lanka, Bangladesh, Pakistan, Nepal, Malaysia, Thailand, Indonesia, Singapore and the Philippines, and the field of use may be limited to the use of actin binding proteins for the development of a topical hydrogel treatment for alopecia to promote hair growth (This notice modifies a previous Federal Register notice published in 69 FR 13859, March 24, 2004).

DATES: Only written comments and/or applications for a license which are received by the NIH Office of Technology Transfer on or before October 1, 2004 will be considered.

ADDRESSES: Requests for copies of the patent application, inquiries, comments, and other materials relating to the contemplated exclusive license should be directed to: Jesse S. Kindra, J.D., M.S., Technology Licensing Specialist, Office of Technology Transfer, National Institutes of Health, 6011 Executive Boulevard, Suite 325, Rockville, MD 20852-3804; telephone: (301) 435-5559; facsimile: (301) 402-0220; e-mail: kindraj@mail.nih.gov.

SUPPLEMENTARY INFORMATION: The technology describes methods and compositions for treating a subject (human or animal) suffering from hair loss. More specifically, the technology relates to the discovery that actin binding peptides promote hair growth. In one example, the technology describes the exogenous delivery of a seven amino acid peptide of Thymosin-β4 to promote hair growth.

The prospective exclusive license will be royalty bearing and will comply with the terms and conditions of 35 U.S.C. 209 and 37 CFR part 404.7. The prospective exclusive license may be granted unless within sixty (60) days from the date of this published notice, the NIH receives written evidence and argument that establishes that the grant of the license would not be consistent with the requirements of 35 U.S.C. 209 and 37 CFR part 404.7.

Applications for a license in the field of use filed in response to this notice will be treated as objections to the grant of the contemplated exclusive license. Comments and objections submitted to this notice will not be made available for public inspection and, to the extent permitted by law, will not be released under the Freedom of Information Act, 5 U.S.C. 552.

Dated: July 23, 2004.
Steven M. Ferguson,
Director, Division of Technology Development and Transfer, Office of Technology Transfer, National Institutes of Health.

[FR Doc. 04-17465 Filed 7-30-04; 8:45 am]

BILLING CODE 4140-01-P